FEDERAL RETIREMENT THRIFT INVESTMENT BOARD

5 CFR Parts 1604 and 1651

Uniformed Services Accounts and Death Benefits; Correction

AGENCY: Federal Retirement Thrift Investment Board.

ACTION: Proposed rule; correction.

SUMMARY: This proposed rule corrects the ADDRESSES section of a proposed rule published in the Federal Register on June 18, 2010, regarding uniformed services accounts and death benefits. This correction clarifies that comments may be submitted at http://www.regulations.gov, by mail, by hand deliver/courier, or by facsimile.

FOR FURTHER INFORMATION CONTACT: Megan G. Grumbine at (202) 942-1644 or Laurissa Stokes at (202) 942-1645.

Correction

In proposed rule FR Doc. 2010-14741 beginning on page 34654 in the issue of June 18, 2010, correct the ADDRESSES section to read as follows: “ADDRESSES: You may submit comments using one of the following methods:

• Federal Rulemaking Portal: http://www.regulations.gov. Follow the instructions for submitting comments.

• Mail: Office of General Counsel, Attn: Thomas Emswiler, Federal Retirement Thrift Investment Board, 1250 H Street, NW., Washington, DC 20005.

• Hand Delivery/Courier: The address for sending comments by hand delivery or courier is the same as that for submitting comments by mail.

• Facsimile: Comments may be submitted by facsimile at (202) 942-1676.

The most helpful comments explain the reason for any recommended change and include data, information, and the authority that supports the recommended change. We will post all substantive comments (including any personal information provided) without change (with the exception of redaction of SSNs, profanities, et cetera) on http://www.regulations.gov.”

Dated: June 21, 2010.
Megan Graziano Grumbine,
Assistant General Counsel.

[FR Doc. 2010-15366 Filed 6-23-10; 8:45 am]

BILLING CODE 6760-01-P